DEPARTMENT OF COMMERCE

National Institute of Standards and Technology

Proposed Information Collection; Comment Request; Advanced Technology Program Business Reporting System

ACTION: Notice.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before August 7, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instruments and instructions should be directed to the attention of Barbara Lambis/Advanced Technology Program Senior Policy and Operations Advisor/100 Bureau Drive, Stop 4700, Gaithersburg, MD 20899-4700/301-975-4447/barbara.lambis@nist.gov.

SUPPLEMENTARY INFORMATION:

I. Abstract

This submission under the Paperwork Reduction Act represents a request for extension of a currently approved collection by the Department of Commerce's National Institute of Standards and Technology. The Advanced Technology Program (ATP) provides cost-shared multi-year funding to single companies and to industry-led joint ventures to accelerate the development of challenging, high-risk technologies that promise significant commercial payoffs and widespread benefits for the nation. This government-industry partnership aids companies in accelerating the development of emerging or enabling technologies that lead to revolutionary new products and industrial processes and services that can compete in rapidly changing world markets. ATP challenges the research and development community to take on higher technical risk with commensurately higher potential payoffs for the nation than they would otherwise pursue. This request is for the information collection requirements associated with completing project surveys once an award is granted. The intent of the collection is to meet statutory requirements for ATP, as well as compliance with 15 CFR part 14 and the Government Performance and Results Act.

II. Method of Collection

The baseline, quarterly, anniversary, and closeout business reports are submitted in a Web-based survey instrument. The post-project survey report is conducted as a telephone survey interview and supplemented with a Web-based survey instrument.

III. Data

OMB Number: 0693-0009.

Form Numbers: None.

Type of Review: Regular submission.

Affected Public: Business or other for-profit organizations; and not-for-profit institutions.

Estimated Number of Respondents: 425.

Estimated Time per Response: 5 Hours.

Estimated Total Annual Respondent Burden Hours: 2,125.

Estimated Total Annual Respondent Cost Burden: $212,500.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: June 1, 2006.
Gwellnar Banks,
Management Analyst, Office of the Chief Information Officer.

[FR Doc. 06-5140 Filed 6-5-06; 8:45 am]

BILLING CODE 3510-13-P